POSTAL SERVICE

Establishment of Permanent Nonletter-Size Business Reply Mail Classification and Fees; Changes in Domestic Classification and Fees

AGENCY: Postal Service.

ACTION: Notice of implementation of changes to the Domestic Mail Classification Schedule and accompanying fee changes.

SUMMARY: This notice sets forth the changes to Domestic Mail Classification Schedule (DMCS) § 931 and the accompanying Fee Schedule 931 changes to be implemented as a result of the November 1, 1999, Decision of the Governors of the United States Postal Service on the Recommended Decision of the Postal Rate Commission on Establishment of Permanent Classification and Fees For Weight-Averaged Nonletter-Size Business Reply Mail, Docket No. MC99-2.

EFFECTIVE DATE: February 6, 2000.

FOR FURTHER INFORMATION CONTACT: Michael Tidwell, (202) 268-2998.

SUPPLEMENTARY INFORMATION: On March 10, 1999, pursuant to its authority under 39 U.S.C. 3621 et seq., the Postal Service filed with the Postal Rate Commission (PRC) a request for a recommended decision on the establishment of a permanent classification and fees for weight-averaged nonletter-size Business Reply Mail. The PRC designated the filing as Docket No. MC99-2. On March 19, 1999, the PRC published a notice of the filing, with a description of the Postal Service's proposals, in the Federal Register (64 FR 13613-13617).

On July 14, 1999, pursuant to its authority under 39 U.S.C. 3624, the PRC issued to the Governors of the Postal Service its recommended decision on the Postal Service's request. The PRC recommended the establishment of the permanent weight averaging classification and fees which were requested by the Postal Service and ratified by the Docket No. MC99-2 parties in a Stipulation and Agreement.

Pursuant to 39 U.S.C. 3625, the Governors of the United States Postal Service acted on the PRC's Docket No. MC99-2 recommendations on November 1, 1999. The Governors determined to approve those recommendations. A copy of the attachment to that decision, setting forth the Docket No. MC99-2 classification and fee changes approved by the Governors, is set forth below.

Also on November 1, 1999, the Board of Governors of the Postal Service, pursuant to their authority under 39 U.S.C. 3625(f), determined to make the Docket No. MC99-2 classification and fee changes approved by the Governors effective at 12:01 a.m. on February 6, 2000 (Resolution No. 99-12).

In accordance with the aforementioned Decision of the Governors and Resolution No. 99-12, the Postal Service hereby gives notice that the classification and fee changes set forth below will become effective at 12:01 a.m. on February 6, 2000. Implementing regulations also become effective at that time, as noted elsewhere in this issue.

Stanley F. Mires,
Chief Counsel, Legislative.
(Attachment to the Decision of the Governors of the United States Postal Service on the Recommended Decision of the Postal Rate Commission on the Establishment of Permanent Classification and Fees for Weight-Averaged Nonletter-Size Business Reply Mail, Docket No. MC99-2)

BILLING CODE 7710-12-U

[FR Doc. 00-1571 Filed 1-21-00; 8:45 am]

BILLING CODE 7710-12-C